DEPARTMENT OF DEFENSE

Office of the Secretary

[Docket ID DoD-2022-OS-0104]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by April 20, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Defense Organizational Climate Survey; OMB Control Number 0704-DOCS.

Type of Request: Existing collection in use without an OMB control number.

Number of Respondents: 1,589,098.

Responses per Respondent: 1.

Annual Responses: 1,589,098.

Average Burden per Response: 30 minutes.

Annual Burden Hours: 794,549.

Needs And Uses: The Defense Organizational Climate Survey (DEOCS) is fielded in response to Section 572 of the National Defense Authorization Act for Fiscal Year 2013. A May 2019 memo from the Acting Secretary of Defense directed that the goals of the DEOCS include developing and providing leaders with assessment tools “that help them with developing an appropriate course of action from a suite of interventions and provide them with feedback on their impact of their efforts.” The information gathered from the DEOCS will be used by commanders, prevention workforce personnel, equal opportunity officers, survey administrators, and other leaders to assess the unit's command climate and measure the risk and protective factors associated with the six strategic target outcomes (sexual assault, sexual harassment, racial/ethnic discrimination, suicide, readiness, and retention). Based on the DEOCS results, commanders, leaders, and their survey administrators will develop an action plan to positively impact their organization's leadership climate. The survey results are provided to the commander/leader and their survey administrator. Survey responses could also be used in future analyses. The statutory and policy requirements for the DEOCS can be found in the following:

FY13 NDAA, Section 572

FY14 NDAA, Section 1721

Memo from the Acting Secretary of Defense, May 2019

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: March 15, 2023.
Aaron T. Siegel,
Alternate OSD Federal Register, Liaison Officer, Department of Defense.

[FR Doc. 2023-05678 Filed 3-20-23; 8:45 am]

BILLING CODE 5001-06-P